MORRIS K. UDALL AND STEWART L. UDALL FOUNDATION

Sunshine Act Meetings

TIME AND DATE: 1 p.m. to 5 p.m. (PDT), Thursday, April 20, 2023, and 9 a.m. to 11:30 a.m. (PDT), Friday, April 21, 2023.

PLACE: Morris K. Udall and Stewart L. Udall Foundation, 434 E University Blvd., Suite 300, Tucson, AZ 85705.

STATUS: This meeting of the Board of Trustees will be open to the public. Members of the public who would like to attend this meeting may request remote access by contacting David Brown at brown@udall.gov prior to April 20, 2023, to obtain the teleconference connection information.

MATTERS TO BE CONSIDERED: April 20, 2023: (1) Call to Order and Chair's Remarks; (2) Trustee Remarks; (3) Executive Director's Remarks; (4) Consent Agenda Approval (Minutes of the December 7, 2022, Board of Trustees Meeting; Board Reports submitted for Data and Information Technology, Education Programs, Finance and Internal Controls, John S. McCain III National Center for Environmental Conflict Resolution, and Udall Center for Studies in Public Policy, including the Native Nations Institute for Leadership, Management, and Policy and The University of Arizona Libraries, Special Collections; and Board takes notice of any new and updated personnel policies and internal control methodologies); (5) Stewart L. Udall Parks in Focus® Overview; and (6) Recognition of Robert Varady, Udall Center for Studies in Public Policy, The University of Arizona. April 21, 2023: (7) Annual Trustee Ethics Training; (8) Future Trustee Data and Information Technology Requirements; and (9) Other Business (including updates on Udall Foundation reauthorization and appropriations legislation and timing, location, and topical focus of the Fall 2023 Board of Trustees Meeting).

CONTACT PERSON FOR MORE INFORMATION: David P. Brown, Executive Director, 434 E University Blvd., Suite 300, Tucson, AZ 85705, (520) 901-8560.

Dated: April 3, 2023.
David P. Brown,
Executive Director, Morris K. Udall and Stewart L. Udall Foundation, and Federal Register Liaison Officer.

[FR Doc. 2023-07285 Filed 4-4-23; 11:15 am]

BILLING CODE 6820-FN-P